DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, its amendments, and such other appropriate matters that the Under Secretary refers to the Panel for review and advice.

Date and Time: The public meeting will be held May 5-6, 2010 from 8:30 a.m. to 5:30 p.m.

Location: Providence, Rhode Island. Marriott Providence Hotel, 1 Orms Street, Providence, Rhode Island, 02904; Tel: (401) 272-2400. Refer to the HSRP Web site listed below for the most current meeting agenda. Times and agenda topics are subject to change.

FOR FURTHER INFORMATION CONTACT: Captain John E. Lowell, Jr., NOAA, Designated Federal Official (DFO), National Ocean Service (NOS), Office of Coast Survey, NOAA (N/CS), 1315 East West Highway, Silver Spring, Maryland 20910; Telephone: 301-713-2770; Fax: 301-713-4019; E-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be included in the final agenda published before May 5, 2010, on the HSRP Web site listed above. Each individual or group making a verbal presentation will be limited to a total time of five (5) minutes. Comments will be recorded. Written comments (at least 30 copies) should be submitted in advance to the DFO by April 28, 2010. Written comments received by the DFO after April 28, 2010, will be distributed to the HSRP, but may not be reviewed before the meeting date. Approximately 30 seats will be available for the public, on a first-come, first-served basis.

Matters To Be Considered: (1) NOAA priorities, future directions and strategic plans for NOAA and NOAA's work in the Arctic; (2) A Speaker panel consisting of regional and local stakeholders on the use of and interest in NOAA's Navigation Services; (3) Presentations will include: updates to the HSRP 2010 Most Wanted Report, NOAA's Fleet Recapitalization, the Integrated Ocean Observing System, Sea Level Rise, the Cape Cod Bay Mapping Project, Maritime Training in the Navy, Coastal and Marine Spatial Planning, NOAA's Navigation Product Distribution, the Committee on Marine Transportation System, HSRP logistics; and (4) public statements.

Dated: April 14, 2010.
Captain John E. Lowell, Jr.,
Director, Office of Coast Survey, National Ocean Service, National Oceanic and Atmospheric Administration.

[FR Doc. 2010-9137 Filed 4-20-10; 8:45 am]

BILLING CODE 3510-JE-P